COMMITTEE FOR PURCHASE FROM PEOPLE WHO ARE BLIND OR SEVERELY DISABLED

41 CFR Part 51-4

RIN 3037-AA16

Prohibition on the Payment of Subminimum Wages Under 14(c) Certificates as a Qualification for Participation as a Nonprofit Agency Under the AbilityOne Program

AGENCY: Committee for Purchase From People Who Are Blind or Severely Disabled.

ACTION: Notice of proposed rulemaking; request for comments; extension of comment period.

SUMMARY: The Commission is extending the deadline for the submission of written comments in response to its October 12, 2021 proposed rule.

DATES: The comment period for the notice of proposed rulemaking published October 12, 2021, at 86 FR 56679, is extended. Initial written comments must be received no later than 11:59 p.m. Eastern Time on December 12, 2021.

ADDRESSES: You may submit comments, identified by RIN 3037-AA16, only by the following method: Internet—Federal eRulemaking Portal. Electronic comments may be submitted through https://www.regulations.gov. To locate the proposed rule, use RIN 3037-AA16 or key words such as “Section 14(c),” “Committee for Purchase,” or “Subminimum Wage” to search documents accepting comments. Follow the instructions for submitting comments. Please be advised that comments received will be posted without change to https://www.regulations.gov, including any personal information provided.

Accessible Format: On request to the program contact person listed under FOR FURTHER INFORMATION CONTACT, individuals with disabilities can obtain this document in an alternative accessible format.

Electronic Access to This Document: The official version of this document is the document published in the Federal Register. You may access the official edition of the Federal Register and the Code of Federal Regulations at www.govinfo.gov. You may also access documents of Commission published in the Federal Register by using the article search feature at: www.federalregister.gov.

FOR FURTHER INFORMATION CONTACT: Shelly Hammond, Director of Contracting and Policy, by telephone (703) 603-2100 or by email at shammond@abilityone.gov. During and after the comment period, you may inspect all public comments about the proposed priority and requirements by accessing Regulations.gov.

Assistance to Individuals With Disabilities in Reviewing the Rulemaking Record: Upon request, we will provide an appropriate accommodation to an individual with a disability who needs assistance to review the comments for the proposed rule. If you want to contact us to request assistance, please contact the person listed in this section.

SUPPLEMENTARY INFORMATION: On October 12, 2021, The Commission issued a notice of proposed rulemaking (“NPRM”) regarding Prohibition on the Payment of Subminimum Wages Under 14(c) as a Qualification for participation as a nonprofit agency under the AbilityOne Program.

To ensure that members of the public have sufficient time to comment, and to ensure the Commission has the benefit of a complete record, the Commission is extending the deadline for submission of initial comments to no later than 11:59 p.m. Eastern Time on December 12, 2021.

Michael R. Jurkowski,
Acting Director, Business Operations.

[FR Doc. 2021-24714 Filed 11-10-21; 8:45 am]

BILLING CODE 6350-01-P